DEPARTMENT OF LABOR

Office of the Secretary

Submission for OMB Review; Comment Request

June 28, 2002.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at ((202) 693-4158 or email Howze-Marlene@dol.gov.

Comments should be sent to Office of Information and Regulatory Affairs, Attn: OMB Desk Officer for BLS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Revision of a currently approved collection

Agency: Bureau of Labor Statistics (BLS).

Title: Labor Market Information (LMI) Cooperative Agreement.

OMB Number: 1220-0079.

Affected Public: State, Local, or Tribal Government.

Frequency: Monthly, Quarterly and Annually.

Number of Respondents: 55.

Number of Annual Responses: 832.

Estimated Time Per Response and Total Burden Hours:

Form | Total respondents | Frequency | Total responses | Average minutes | Estimated total burden (in hours)
Work Statements | 55 | 1 | 55 | 1-2 hrs. | 55-110
BIF (LMI 1A, 1B) | 55 | 1 | 55 | 1-6 hrs. | 55-330
Quarterly Automated Financial Reports | 48 | 4 | 192 | 10-50 min. | 32-160
Monthly Automated Financial Reports | 48 | *8 | 384 | 5-25 min. | 32-160
BLS Cooperative Statistics Financial Report (LMI 2A) | 7 | 12 | 84 | 1-5 hrs. | 84-420
Quarterly Status Report (LMI 2B) | 1-30 | 4 | 4-120 | 1 hr. | 4-120
Total | 1-55 |  | 774-890 |  | 264-1300
Average Totals | 55 |  | 832 |  | 781
* Reports are not received for end-of-quarter months, i.e., December, March, June, and September.

Total Annualized Capital/Startup Costs: $0.

Total Annual Costs (operating/maintaining systems or purchasing services): $0.

Description: The LMI Cooperative Agreement (CA) includes all information needed by the State Employment Security Agencies (SESAs) to apply for funds to assist them to operate one or more of the five LMI programs operated by the Bureau of Labor Statistics, and, once awarded, report on the status of obligation and expenditure of funds as well as close out the Cooperative Agreement. Information collected under the CA is used by Federal regional and national office staffs to carry out their fiduciary responsibilities to negotiate the CA funding levels with the SESAs, monitor their financial and programmatic performance, and monitor their adherence to administrative requirements imposed by 29 CFR part 97.

Ira L. Mills,
DOL Clearance Officer.

[FR Doc. 02-16808 Filed 7-2-02; 8:45 am]

BILLING CODE 4510-24-M